DEPARTMENT OF THE INTERIOR

Bureau of Land Management

[NV-030-08-5700-BX; 8-08807; TAS: 14X5017]

Temporary Closure of Public Lands in Washoe County, NV

AGENCY: Bureau of Land Management, Interior.

ACTION: Notice of Closure.

SUMMARY: Pursuant to 43 CFR 8364.1 certain public lands near Stead, Nevada, will be temporarily closed to all public use. This action is being taken to provide for public safety during the Reno Air Racing Association Pylon Racing Seminar and the Reno National Championship Air Races.

DATES: Effective Date: Closure to all public use June 18 through June 21, 2008, and September 7 through September 14, 2008.

FOR FURTHER INFORMATION CONTACT: Bryant Smith, (775) 885-6000.

SUPPLEMENTARY INFORMATION: These closures are authorized under the provisions of the Federal Land Policy and Management Act of 1976, 43 U.S.C. 1701 et seq. This closure applies to all public use, including pedestrian use and vehicles. The public lands affected by this closure are described as follows:

Mount Diablo Meridian, Nevada

T. 21 N., R. 19 E.,

Sec. 8, N½NE¼, SE¼NE¼ and E½SE¼;

Sec. 16, N½ and SW¼.

The area described contains 680 acres, more or less.

Exceptions: Closure restrictions do not apply to e vent officials, medical/rescue, law enforcement, and agency personnel monitoring the events.

Penalties: Any person who fails to comply with the closure orders is subject to arrest and, upon conviction, may be fined not more than $1,000 and/or imprisonment for not more than 12 months.

Authority: 43 CFR 8360.0-7 and 8364.1.

Dated: June 2, 2008.
Donald T. Hicks,
Field Manager, Carson City Field Office.

[FR Doc. E8-12838 Filed 6-6-08; 8:45 am]

BILLING CODE 4310-HC-P